DEPARTMENT OF COMMERCE

International Trade Administration

[A-489-805]

Certain Pasta From Turkey: Notice of Initiation of Antidumping Duty New Shipper Review

AGENCY: Enforcement and Compliance, formerly Import Administration, International Trade Administration, Department of Commerce.

SUMMARY: The Department of Commerce (the Department) received a request for a new shipper review of the antidumping duty order ¹ on certain pasta from Turkey.² In accordance with section 751(a)(2)(B) of the Tariff Act of 1930, as amended (the Act), and 19 CFR 351.214, we are initiating an antidumping duty new shipper review of Beşsan Makarina Gida San. Ve Tic. A.S. (Beşsan). The period of review (POR) of this new shipper review is July 1, 2013, through January 31, 2014.

¹ See Notice of Antidumping Duty Order and Amended Final Determination of Sales at Less Than Fair Value: Certain Pasta From Turkey, 61 FR 38545 (July 24, 1996) (Order).

² See Letter from Beşsan, “Request for New Shipper Review; Antidumping Duty Order Involving Certain Pasta from Turkey,” (January 31, 2014) (Beşsan's Request).

DATES: Effective Date: March 10, 2014.

FOR FURTHER INFORMATION CONTACT: Tyler Weinhold or Robert James, AD/CVD Operations, Office VI, Enforcement and Compliance, International Trade Administration, U.S. Department of Commerce, 14th Street and Constitution Avenue NW., Washington, DC 20230, telephone: (202) 482-1121 or (202) 482-0649, respectively.

SUPPLEMENTARY INFORMATION:

Background

On July 24, 1996, the Department published the antidumping duty order on certain pasta from Turkey.³ Thus, the antidumping duty order on certain pasta from the Turkey has a January semi-annual anniversary month. On January 31, 2014, the Department received a timely filed request for a new shipper review from Beşsan. In its request for a review, Beşsan identified itself as both a producer and exporter of the subject merchandise which was exported to the United States.

³ See Order.

Pursuant to the requirements set forth in section 751(a)(2)(B)(i) of the Act and 19 CFR 351.214(b)(2), Beşsan certified that (1) it did not export subject merchandise to the United States during the period of investigation (POI); and (2) since the initiation of the investigation, it has never been affiliated with any company that exported subject merchandise to the United States during the POI, including those companies not individually examined during the investigation.⁴ Additionally, in accordance with 19 CFR 351.214(b)(2)(iv), Beşsan submitted documentation establishing: (1) The date on which it first shipped subject merchandise to the United States; (2) the volume of its first shipment; and (3) the date of its first sale to a U.S. purchaser for export to the United States.⁵

⁴ See Beşsan's Request at 2 and Exhibit 1.

⁵ For more information, see Memorandum from Tyler Weinhold, through Robert James, to the file, “Initiation of Antidumping Duty New Shipper Review: Pasta from Turkey,” dated concurrently with this notice (Initiation Checklist).

We note that although Beşsan submitted documentation regarding the volume of its shipment and the date of their first sale to an unaffiliated customer in the United States, our customs query shows that Beşsan's shipment appears to have entered the United States shortly after the semi-annual anniversary month. Under 19 CFR 351.214(f)(2)(ii), when the sale of the subject merchandise occurs within the normal POR, but the entry occurs after the normal POR, the POR may be extended unless it would be likely to prevent the completion of the review within the time limits set by the Department's regulations. The preamble to the Department's regulations states that both the entry and the sale should occur during the POR, and that under “appropriate” circumstances the Department has the flexibility to extend the POR.⁶ In this instance, Beşsan's shipment appears to have entered during the month following the end of the normal POR. The Department does not find that this delay would be likely to prevent the completion of the review within the time limits set by the Department's regulations.

⁶ See Antidumping Duties; Countervailing Duties; Final Rule, 62 FR 27296, 27319-27320 (May 19, 1997).

Initiation of Review

Based on information on the record and in accordance with section 751(a)(2)(B) of the Act, and 19 CFR 351.214(d), we find that the request meets the statutory and regulatory requirements for initiation of a new shipper review.⁷ Accordingly, we are initiating a new shipper review of the antidumping duty order on pasta from Turkey produced and exported by Beşsan, for the period July 1, 2013, through January 31, 2014.

⁷ See Initiation Checklist.

If the Department subsequently determines, based on information collected, that a new shipper review for Beşsan is not warranted, the Department will either rescind the review or apply facts available pursuant to section 776 of the Act, as appropriate.

We intend to issue the preliminary results of this review no later than 180 days after the date on which this review is initiated, and the final results within 90 days after the date on which we issue the preliminary results.⁸

⁸ See section 751(a)(2)(B)(iv) of the Act and 19 CFR 351.214(h)(i).

We will instruct CBP to allow, at the option of the importer, the posting, until the completion of the review, of a bond or security in lieu of a cash deposit for certain entries of the subject merchandise produced and exported by Beşsan in accordance with section 751(a)(2)(B)(iii) of the Act and 19 CFR 351.214(e). Because Beşsan certified that it produces and exports the subject merchandise, the sale of which forms the basis for its new shipper review request, we will instruct CBP to permit the use of a bond only for entries of subject merchandise which Beşsan produced and exported.

Interested parties may submit applications for disclosure under administrative protective order in accordance with 19 CFR 351.305 and 351.306.

This initiation and this notice are issued and published in accordance with section 751(a)(2)(B) of the Act and 19 CFR 351.214 and 351.221(c)(1)(i).

Dated: February 27, 2014.
Christian Marsh,
Deputy Assistant Secretary for Antidumping and Countervailing Duty Operations.

[FR Doc. 2014-05230 Filed 3-7-14; 8:45 am]

BILLING CODE 3510-DS-P